DEPARTMENT OF ENERGY

Federal Energy Regulatory Commission

Combined Notice of Filings #1

Take notice that the Commission received the following electric corporate filings:

Docket Numbers: EC19-79-000.

Applicants: Cobalt Power, L.L.C., Garrison Energy Center LLC, RockGen Energy LLC.

Description: Joint Application for Authorization Under Section 203 of the Federal Power Act, et al. of Cobalt Power, L.L.C.

Filed Date: 4/18/19.

Accession Number: 20190418-5158.

Comments Due: 5 p.m. ET 5/9/19.

Take notice that the Commission received the following electric rate filings:

Docket Numbers: ER18-1267-006.

Applicants: GridLiance High Plains LLC.

Description: Compliance filing: Supplemental Revisions to OATT Attchmt K and Resubmission of Attchmt Q to be effective 3/31/2018.

Filed Date: 4/18/19.

Accession Number: 20190418-5146.

Comments Due: 5 p.m. ET 5/9/19.

Docket Numbers: ER17-1743-003.

Applicants: Doswell Limited Partnership.

Description: Report Filing: Refund Report? Informational Filing to be effective N/A.

Filed Date: 4/17/19.

Accession Number: 20190417-5155.

Comments Due: 5 p.m. ET 5/8/19.

Docket Numbers: ER19-1600-000.

Applicants: Pacific Gas and Electric Company.

Description: § 205(d) Rate Filing: E&P Agreement for VP Development—es Volta to be effective 4/18/2019.

Filed Date: 4/17/19.

Accession Number: 20190417-5143.

Comments Due: 5 p.m. ET 5/8/19.

Docket Numbers: ER19-1601-000.

Applicants: PJM Interconnection, L.L.C.

Description: Tariff Cancellation: Notice of Cancellation of WMPA/SA No. 3656; Queue No. V4-022 to be effective 5/13/2019.

Filed Date: 4/17/19.

Accession Number: 20190417-5146.

Comments Due: 5 p.m. ET 5/8/19.

Docket Numbers: ER19-1602-000.

Applicants: Mirabito Power & Gas, LLC.

Description: Compliance filing: MBR baseline refile to be effective 3/31/2019.

Filed Date: 4/17/19.

Accession Number: 20190417-5151.

Comments Due: 5 p.m. ET 5/8/19.

Docket Numbers: ER19-1603-000.

Applicants: Lorenzo Wind, LLC.

Description: Market-Based Triennial Review Filing: Lorenzo Wind, LLC Triennial Amendment to Market-Based Rate Tariff to be effective 4/18/2019.

Filed Date: 4/17/19.

Accession Number: 20190417-5156.

Comments Due: 5 p.m. ET 5/8/19.

Docket Numbers: ER19-1604-000.

Applicants: Minco Wind IV, LLC.

Description: Market-Based Triennial Review Filing: Minco Wind IV, LLC Triennial Amendment to Market-Based Rate Tariff to be effective 4/18/2019.

Filed Date: 4/17/19.

Accession Number: 20190417-5157.

Comments Due: 5 p.m. ET 5/8/19.

Docket Numbers: ER19-1605-000.

Applicants: Minco Wind V, LLC.

Description: Market-Based Triennial Review Filing: Minco Wind V, LLC Triennial Amendment to Market-Based Rate Tariff to be effective 4/18/2019.

Filed Date: 4/17/19.

Accession Number: 20190417-5158.

Comments Due: 5 p.m. ET 5/8/19.

Docket Numbers: ER19-1606-000.

Applicants: Ninnescah Wind Energy, LLC.

Description: Market-Based Triennial Review Filing: Ninnescah Wind Energy, LLC Triennial Amendment to Market-Based Rate Tariff to be effective 4/18/2019.

Filed Date: 4/17/19.

Accession Number: 20190417-5162.

Comments Due: 5 p.m. ET 5/8/19.

Docket Numbers: ER19-1607-000.

Applicants: Osborn Wind Energy, LLC.

Description: Market-Based Triennial Review Filing: Osborn Wind Energy, LLC Triennial Amendment Market-Based Rate Tariff to be effective 4/18/2019.

Filed Date: 4/17/19.

Accession Number: 20190417-5163.

Comments Due: 5 p.m. ET 5/8/19.

Docket Numbers: ER19-1608-000.

Applicants: Pratt Wind, LLC.

Description: Market-Based Triennial Review Filing: Pratt Wind, LLC Triennial Amendment to Market-Based Rate Tariff to be effective 4/18/2019.

Filed Date: 4/17/19.

Accession Number: 20190417-5164.

Comments Due: 5 p.m. ET 5/8/19.

Docket Numbers: ER19-1609-000.

Applicants: Rush Springs Wind Energy, LLC.

Description: Market-Based Triennial Review Filing: Rush Springs Wind Energy, LLC Triennial Amendment to Market-Based Rate Tariff to be effective 4/18/2019.

Filed Date: 4/17/19.

Accession Number: 20190417-5165.

Comments Due: 5 p.m. ET 5/8/19.

Docket Numbers: ER19-1610-000.

Applicants: Louisville Gas and Electric Company.

Description: § 205(d) Rate Filing: OMU Amended NITSA Svc Agmt No 15 to be effective 3/20/2019.

Filed Date: 4/18/19.

Accession Number: 20190418-5002.

Comments Due: 5 p.m. ET 5/9/19.

Docket Numbers: ER19-1611-000.

Applicants: PJM Interconnection, L.L.C.

Description: Tariff Cancellation: Notice of Cancellation of WMPA/SA No. 4361; Queue No. AA1-096 to be effective 4/8/2019.

Filed Date: 4/18/19.

Accession Number: 20190418-5095.

Comments Due: 5 p.m. ET 5/9/19.

Docket Numbers: ER19-1612-000.

Applicants: California Independent System Operator Corporation.

Description: § 205(d) Rate Filing: 2019-04-18 EIM Agreement between CAISO and Seattle City Light Dept. to be effective 6/18/2019.

Filed Date: 4/18/19.

Accession Number: 20190418-5106.

Comments Due: 5 p.m. ET 5/9/19.

Docket Numbers: ER19-1613-000.

Applicants: Southwestern Public Service Company.

Description: § 205(d) Rate Filing: Hale Wind Project to be effective 6/1/2019.

Filed Date: 4/18/19.

Accession Number: 20190418-5116.

Comments Due: 5 p.m. ET 5/9/19.

Docket Numbers: ER19-1614-000.

Applicants: Minco IV & V Interconnection, LLC.

Description: Market-Based Triennial Review Filing: Minco IV & V Interconnection, LLC Triennial Amendment to MBR Tariff to be effective 4/19/2019.

Filed Date: 4/18/19.

Accession Number: 20190418-5118.

Comments Due: 5 p.m. ET 5/9/19.

Docket Numbers: ER19-1615-000.

Applicants: Palo Duro Wind Interconnection Services, LLC.

Description: Market-Based Triennial Review Filing: Palo Duro Wind Interconnection Services, LLC Triennial Amendment to MBR Tariff to be effective 4/19/2019.

Filed Date: 4/18/19.

Accession Number: 20190418-5119.

Comments Due: 5 p.m. ET 5/9/19.

Docket Numbers: ER19-1616-000.

Applicants: Seiling Wind Interconnection Services, LLC.

Description: Market-Based Triennial Review Filing: Seiling Wind Interconnection Services, LLC Triennial Amendment to MBR Tariff to be effective 4/19/2019.

Filed Date: 4/18/19.

Accession Number: 20190418-5120.

Comments Due: 5 p.m. ET 5/9/19.

Docket Numbers: ER19-1617-000.

Applicants: Sholes Wind, LLC.

Description: Market-Based Triennial Review Filing: Sholes Wind, LLC Triennial Amendment to Market-Based Rate Tariff to be effective 4/19/2019.

Filed Date: 4/18/19.

Accession Number: 20190418-5121.

Comments Due: 5 p.m. ET 5/9/19.

Docket Numbers: ER19-1618-000.

Applicants: Steele Flats Wind Project, LLC.

Description: Market-Based Triennial Review Filing: Steele Flats Wind Project, LLC Triennial Amendment to Market-Based Rate Tariff to be effective 4/19/2019.

Filed Date: 4/18/19.

Accession Number: 20190418-5122.

Comments Due: 5 p.m. ET 5/9/19.

Docket Numbers: ER19-1619-000.

Applicants: Wildcat Ranch Wind Project, LLC.

Description: Market-Based Triennial Review Filing: Wildcat Ranch Wind Project, LLC Triennial Amendment to Market-Based Rate Tariff to be effective 4/19/2019.

Filed Date: 4/18/19.

Accession Number: 20190418-5123.

Comments Due: 5 p.m. ET 5/9/19.

Docket Numbers: ER19-1620-000.

Applicants: AEP Texas Inc.

Description: § 205(d) Rate Filing: AEPTX-Shakes Solar Interconnection Agreement Second Amend & Restated to be effective 4/4/2019.

Filed Date: 4/18/19.

Accession Number: 20190418-5153.

Comments Due: 5 p.m. ET 5/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2019.
Nathaniel J. Davis, Sr.,
Deputy Secretary.

[FR Doc. 2019-08237 Filed 4-23-19; 8:45 am]

BILLING CODE 6717-01-P